DEPARTMENT OF TRANSPORTATION

Federal Aviation Administration

Office of Hazardous Materials Safety Meeting

AGENCY: Federal Aviation Administration, DOT.

ACTION: Notice of public meeting.

SUMMARY: In preparation for the International Civil Aviation Organization's (ICAO) Dangerous Goods Panel (DGP) meeting to be held October 17-October 21, 2016, in Montreal, Canada, the Federal Aviation Administration's (FAA) Office of Hazardous Materials Safety and the Pipeline and Hazardous Materials Safety Administration's (PHMSA) Office of Hazardous Materials Safety announce a public meeting.

DATES: The public meeting will be held on Thursday, October 13, 2016 from 9 a.m. until 12 p.m.

ADDRESSES: The public meeting will be held at FAA Headquarters (FOB 10A), 2nd Floor, Bessie Coleman Conference Room, 800 Independence Avenue SW., Washington, DC 20591.

FOR FURTHER INFORMATION CONTACT: Questions regarding the meeting can be directed to Ms. Janet McLaughlin, Director, Office of Hazardous Materials Safety, ADG-1, Federal Aviation Administration, 800 Independence Avenue SW., Washington, DC 20591; telephone (202) 267-9432, Email:9-AWA-ASH-ADG-HazMat@faa.gov. Questions in advance of the meeting for PHMSA can be directed to Mr. Shane Kelley, Assistant International Standards Coordinator, Pipeline and Hazardous Materials Safety Administration, PHH-10, 1200 New Jersey Ave. SE., Washington, DC 20590, telephone (202) 366-8553, Email: shane.kelley@dot.gov.

SUPPLEMENTARY INFORMATION: Participants are requested to register by using the following email address:9-AWA-ASH-ADG-HazMat@faa.gov. Please include your name, organization, email address, and indicate whether you will be attending in person or participating via conference call. Conference call connection information will be provided to those who register and indicate that they will participate via conference call.

We are committed to providing equal access to this meeting for all participants. If you need alternative formats or other reasonable accommodations, please call (202) 267-9432 or email 9-AWA-ASH-ADG-HazMat@faa.gov with your request by close of business on September 27, 2016.

Information and viewpoints provided by stakeholders are requested as the United States delegation prepares for the International Civil Aviation Organization's Dangerous Goods Panel meeting to be held October 17-October 21, 2016, in Montreal, Canada.

Papers relevant to this ICAO DGP meeting can be viewed at the following Web page: http://www.icao.int/safety/DangerousGoods/Pages/WG16.aspx.

A panel of representatives from the FAA and PHMSA will be present. The meetings are intended to be informal, non-adversarial, and to facilitate the public comment process. No individual will be subject to questioning by any other participant. Government representatives on the panel may ask questions to clarify statements. Unless otherwise stated, any statement made during the meetings by a panel member should not be construed as an official position of the U.S. government.

The meeting will be open to all persons, subject to the capacity of the meeting room and phone lines available for those participating via conference call. Every effort will be made to accommodate all persons wishing to attend. The FAA and PHMSA will try to accommodate all speakers, subject to time constraints.

Issued in Washington, DC, on September 15, 2016.
Janet McLaughlin,
Director, Office of Hazardous Materials Safety.

[FR Doc. 2016-22795 Filed 9-20-16; 8:45 am]

BILLING CODE 4910-13-P